DEPARTMENT OF THE INTERIOR

Bureau of Land Management

[LLWYP070000; L14300000.EU0000; WYW-168374]

Notice of Realty Action: Non-Competitive (Direct) Sale of Public Land in Campbell County, WY

AGENCY: Bureau of Land Management, Interior.

ACTION: Notice of realty action.

SUMMARY: The Bureau of Land Management proposes to sell on a non-competitive basis a parcel of public land totaling 4.15 acres in Campbell County, Wyoming, to the Craig G. and Peggy S. Means Revocable Trust under the provisions of the Federal Land Policy and Management Act of 1976 (FLPMA), for not less than the appraised fair market value of $1,765.

DATES: Interested parties may submit comments regarding the proposed sale of the lands until February 3, 2014.

ADDRESSES: Send written comments concerning this notice to Field Manager, Bureau of Land Management (BLM), Buffalo Field Office, 1425 Fort Street, Buffalo, WY 82834, or by email to buffalo_wymail@blm.gov.

FOR FURTHER INFORMATION CONTACT: Claire Oliverius, Realty Specialist, BLM, Buffalo Field Office, at the above address or phone 307-684-1178. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following described public land has been examined and found suitable for direct sale under the authority of Section 203 of FLPMA, as amended, (43 U.S.C. 1713):

Sixth Principal Meridian

T. 56 N., R. 73 W.,

Sec. 8, lot 17.

The area described contains 4.15 acres in Campbell County, Wyoming according to the official plat of the survey of the said land, on file with the BLM.

The proposed direct sale is in conformance with the BLM Buffalo Resource Management Plan (RMP) approved on October 4, 1985. The parcel is identified for disposal in the RMP Record of Decision, pages 13 and 14 and Map 5. Additionally, Maintenance Plan Change #20120720 was added to comply with guidelines of the Department of the Interior and the BLM. The Maintenance Plan Change updated the land disposal map and included a text version of all legal descriptions of parcels identified for consideration for disposal. The BLM is offering the parcel by direct sale to resolve inadvertent unauthorized use and occupancy of the land pursuant to 43 CFR 2711.3-3(a)(5). The parcel is not needed for any other Federal purpose and has become difficult and uneconomical to manage. The regulations at 43 CFR 2711.3-3(a) permit the BLM to make direct sales of public lands when a competitive sale is not appropriate and the public interest would be best served by a direct sale.

On February 4, 2013, the BLM published a Notice of Realty Action (NORA) in the Federal Register (78 FR 7809) to segregate the parcel from appropriation under the public land laws, including the mining laws, for a period of 2 years from the date of publication. In addition to this NORA, notice of this sale will also be published once a week for 3 weeks in the Gillette News Record.

Conveyance of the identified public land will be subject to valid existing rights and encumbrances of record including, but not limited to, rights-of-way for roads and public utilities. All minerals will be reserved to the United States. Upon publication of this NORA and until completion of the sale, the BLM is no longer accepting land use applications affecting the identified public land, except applications for the amendment of previously-filed right-of-way applications or existing authorizations to increase the term of the grants in accordance with 43 CFR 2807.15 and 2886.15.

The public land will not be offered for sale until February 18, 2014. The patent, if issued, will be subject to the following reservations:

1. A right-of-way thereon for ditches or canals constructed by the authority of the United States, Act of August 30, 1890 (43 U.S.C. 945); and

2. All minerals, together with the right to prospect for, mine, and remove such deposits from the same under applicable law and such regulations as the Secretary of the Interior may prescribe.

The patent will be subject to all valid existing rights documented on the official public land records at the time of patent issuance.

Interested parties may submit written comments to the BLM, Buffalo Field Manager at the address above. Comments, including names and street addresses of respondents, will be available for public review at the BLM, Buffalo Field Office during regular business hours. Before including your address, phone number, email address, or other personal identifying information in your comment, you should be aware that your entire comment—including your personal identifying information—may be made publicly available at any time. While you may ask us in your comment to withhold your personal identifying information from public review, we cannot guarantee that we will be able to do so. Any comments will be reviewed by the Wyoming State Director who may sustain, vacate, or modify this realty action and issue a final determination. In the absence of any objections, this realty action will become the final determination of the Department of the Interior.

Authority: 43 CFR part 2711.

Mary Jo Rugwell,
Associate State Director.

[FR Doc. 2013-30206 Filed 12-18-13; 8:45 am]

BILLING CODE 4310-22-P